DEPARTMENT OF DEFENSE

Department of the Army; Corps of Engineers

Intent To Prepare a Draft Environmental Impact Statement/Environmental Impact Report (DEIS/EIR) for the Westminster Watershed Study, Orange County, CA

AGENCY: Department of the Army, U.S. Army Corps of Engineers, DOD.

ACTION: Notice of intent.

SUMMARY: The purpose of this study is to evaluate the Westminster watershed ecosystem and look for multipurpose recommendations for how to more effectively manage its natural resources. There is a need for both flood control improvements as well as ecosystem habitat restoration. The study area is located in western Orange County, CA, approximately 25 miles southeast of the City of Los Angeles. The Westminster watershed lies on a flat coastal plain, is approximately 90 square miles in area, and is almost entirely urbanized with residential and commercial development. There are two main channel systems that collect runoff from portions of urbanized areas in the cities of Anaheim, Stanton, Cypress, Orange, Santa Ana, Garden Grove, Westminster, Fountain Valley, Los Alamitos, Seal Beach, and Huntington Beach.

The East Garden Grove-Wintersburg Channel (EGGW), with its principal tributary, the Ocean View Channel (OV), drains into Bolsa Bay. Two retarding basins (Haster and West Street) exist at the upstream reach of the EGGW channel. Bolsa Bay includes the Bolsa Chica Lowlands and Ecological Reserve, and is a major environmental resource in southern California. The Bay has been designated as an area of national significance, and is host to a wide assemblage of resident and migratory waterfowl and marine species including over 30 Federal and/or State listed sensitive species that utilize the wetlands during all or part of their annual cycle.

The Bolsa Chica Flood Control Channel (BCFC), with its principal tributaries, the Anaheim-Barber City Channel and Westminster Channel, drains to Huntington Harbour. The BCFC Channel drains the western portion of the study area, with a significant portion of property adjacent to the Seal Beach Naval Weapons Station of the U.S. Navy and 1.5 miles runs through and adjacent to the Los Alamitos Armed Forces Training Base. Aside from the military facilities, this portion of the watershed is almost entirely urbanized. Agriculture is still practiced under leases granted by the Navy on portions of their property. The BCFC Channel outlets into Huntington Harbour, but unlike EGGW, does not outlet into Bolsa Bay. The sole ocean outlet for both Bolsa Bay and Huntington Harbour is to the north at Anaheim Bay and the Seal Beach National Wildlife Refuge. Tidal influence in the lowermost portion of the BCFC and East Garden Grove-Wintersburg Channels extended approximately 2 miles inland.

ADDRESSES: Submit comments to Ms. Lydia Lopez-Cruz at U.S. Army Corps of Engineers, Los Angeles District, CESPL-PD-RN, c/o Lydia-Cruz, P.O. Box 532711, Los Angeles, CA 90053-2325.

FOR FURTHER INFORMATION CONTACT: Ms. Lydia Lopez-Cruz, Environmental Coordinator, at 213-452-3855 or e-mail at lydia.lopez-cruz@usace.army.mil.

SUPPLEMENTARY INFORMATION: 1. Authorization. The proposed study is authorized in response to a House Resolution dated May 8, 1964, which reads as follows:

“Resolved by the Committee on Public Works of the House of Representatives, United States, that the Board of Engineers for Rivers and Harbors is hereby requested to review the reports on (a) San Gabriel River and Tributaries, published as House Document No. 838, 76th Congress, 3d Session; (b) Santa Ana River and Tributaries, published as House Document No. 135, 81st Congress, 1st Session; and (c) the project authorized by the Flood Control Act of 1936 for the protection of the metropolitan area in Orange County, with a view to determining the advisability of modification of the authorized projects in the interest of flood control and related purposes.”

2. Background. Before development, the watershed was largely comprised of grasses and trees, such as oaks, cottonwoods and sycamore. Early development was primarily agricultural with some residential. As of the early 1990s, 85 percent of the Westminster watershed was urbanized. Land use consists primarily of residential, commercial, military, light industrial, schools and parks, and transportation facilities. It is expected that in the next 50 years full development of the remaining agricultural and vacant land will occur. This future potential development is not expected to significantly affect the current flood conditions.

3. Scoping Process. A scoping meeting is scheduled for January 25, 2006, 6:30-8 p.m., at Garden Grove Civic Center, Community Meeting Center, Constitution Room, 11300 Stanford Ave., Garden Grove, CA 92840. Additional public meetings will be scheduled throughout the study. For specific dates, times and locations please contact Mary Anne Skorpanich, Orange County, at 714-834-5311 or e-mail at MaryAnne.Skorpanich@rdmd.ocgov.com. Potential impacts associated with the proposed action will be evaluated. Resource categories that will be analyzed are: physical environment, geology, biological resources, air quality, water quality, recreational usage, aesthetics, cultural resources, transportation, noise, hazardous waste, socioeconomics and safety.

b. Participation of affected Federal, State and local resource agencies, Native American groups and concerned interest groups/individuals is encouraged in the scoping process. Time and location of the Public Scoping meeting will also be announced by means of a letter, public announcements and news releases. Public participation will be especially important in defining the scope of analysis in the EIS/EIR, identifying significant environmental issues and impact analysis in the EIS/EIR and providing useful information such as published and unpublished data, personal knowledge of relevant issues and recommending mitigative measures associated with the proposed action.

c. Those interested in providing information or data relevant to the environmental or social impacts that should be included or considered in the environmental analysis can furnish this information by writing to the points of contact indicated above or by attending the public scoping meeting. A mailing list will also be established so pertinent data may be distributed to interested parties.

Dated: January 5, 2006.
Alex C. Dornstauder,
Colonel, U.S. Army, District Engineer.

[FR Doc. 06-317 Filed 1-12-06; 8:45 am]

BILLING CODE 3710-KF-M